DEPARTMENT OF EDUCATION

DEPARTMENT OF THE TREASURY

OFFICE OF MANAGEMENT AND BUDGET

Federal Family Education Loan Program (FFELP)

AGENCY: Department of Education, Department of the Treasury, Office of Management and Budget.

ACTION: Notice of terms and conditions of purchase of loans under the Ensuring Continued Access to Student Loans Act of 2008; correction; extension of deadline.

SUMMARY: On July 1, 2008, the Department of Education, the Department of the Treasury, and the Office of Management and Budget published a notice of terms and conditions of purchase of loans under the Ensuring Continued Access to Student Loans Act of 2008 in the Federal Register (Notice of Terms and Conditions). Appendix D to the Notice of Terms and Conditions contained several minor errors. This document corrects Appendix D. This document also extends the deadline, specified in Appendix B and Appendix C of the Notice of Terms and Conditions, for submission of a Notice of Intent to Participate under the Loan Purchase Commitment and Loan Participation Purchase programs.

FOR FURTHER INFORMATION CONTACT: Kristie Hansen, U.S. Department of Education, Office of Federal Student Aid, Union Center Plaza, 830 First Street, NE., Room 113F1, Washington, DC 20202. Telephone: (202) 377-3309 or by e-mail: Kristie.Hansen@ed.gov.

If you use a telecommunications device for the deaf (TDD), call the Federal Relay Service (FRS), toll free, at 1-800-877-8339.

Individuals with disabilities can obtain this document in an alternative format (e.g., Braille, large print, audiotape, or computer diskette) on request to the contact person listed in this section.

SUPPLEMENTARY INFORMATION:

Correction

In the notice of terms and conditions of purchase of loans under the Ensuring Continued Access to Student Loans Act of 2008, published July 1, 2008 (73 FR 37422), make the following correction:

On pages 37449 and 37450, Appendix D is removed and replaced with Appendix D, attached.

Extension of Deadline: The Notice of Terms and Conditions announced the terms and conditions that govern the Loan Purchase Commitment Program (Loan Purchase Program Terms and Conditions) and the Loan Participation Purchase Program (Loan Participation Purchase Program Terms and Conditions) (collectively, the “Terms and Conditions”) established by the Department of Education, the Department of the Treasury and the Office of Management and Budget pursuant to the Ensuring Continued Access to Student Loans Act of 2008.

The Loan Purchase Program Terms and Conditions provided in Appendix B (73 FR 37432) that a “Lender may not sell Eligible Loans to the Department on which the first disbursement was made prior to the date on which the Department receives the Notice of Intent, unless the Department receives the Notice of Intent on or before a date fifteen calendar days after the terms of the Program are published in the Federal Register.” Similarly, the Loan Participation Purchase Program Terms and Conditions provided in Appendix C (73 FR 37447) that the “Eligible Lender may not sell Participation Interests to the Department relating to loans for which the first disbursement was made prior to the date on which the Department receives the Notice of Intent, unless the Department receives the Notice of Intent on or before a date fifteen calendar days after the terms of the program are published in the Federal Register.”

Under these provisions, the Notice of Intent for both programs would have to be received by the Department on or before July 16, 2008 to ensure loans for which the first disbursement was made on or after May 1, 2008 were eligible for the programs. To provide lenders with additional time to submit the Notice of Intent for both programs, the Department, the Department of the Treasury, and the Office of Management and Budget are extending that deadline until July 31, 2008.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 10, 2008.
Sara Martinez Tucker,
Under Secretary for Education.
Dated: July 10, 2008.
Taiya Smith,
Executive Secretary and Deputy Chief of Staff of the Department of the Treasury.
Dated: July 9, 2008.
Steve McMillin,
Deputy Director, Office of Management and Budget.

BILLING CODE 4000-01-P

[FR Doc. E8-16241 Filed 7-16-08; 8:45 am]

BILLING CODE 4000-01-C